DEPARTMENT OF HEALTH AND HUMAN SERVICES

National Institutes of Health

National Cancer Institute; Notice of Meeting

Pursuant to section 1009 of the Federal Advisory Committee Act, as amended, notice is hereby given of a meeting of the National Cancer Advisory Board.

The meeting will be held virtually and is open to the public, as indicated below. Individuals who plan to view the virtual meeting and require special assistance or other reasonable accommodation should notify the Contact Person listed below in advance of the meeting. The meeting can be accessed from the NIH Videocast at the following link: http://videocast.nih.gov/. A portion of the meeting will be closed to the public in accordance with the provisions set forth in section 552b(c)(6), Title 5 U.S.C., as amended. The intramural programs and projects and the discussions could disclose confidential trade secrets or commercial property such as patentable material, and personal information concerning individuals associated with the intramural programs and projects, the disclosure of which would constitute a clearly unwarranted invasion of personal privacy.

Name of Committee: National Cancer Advisory Board.

Date: December 2, 2025.

Open: 10:00 a.m. to 1:20 p.m.

Agenda: NCAB Subcommittee Meetings.

Open: 1:30 a.m. to 4:00 p.m.

Agenda: Opening Remarks and Business of the Board.

Closed: 4:15 p.m. to 5:00 p.m.

Agenda: To review and evaluate the intramural program, site visit outcomes and discussions of confidential personnel issues.

Address: National Cancer Institute Shady Grove, 9609 Medical Center Drive, Rockville, MD 20850.

Meeting Format: Virtual Meeting.

Contact Person: Shamala K. Srinivas, Ph.D., Associate Director, Division of Extramural Activities, National Cancer Institute—Shady Grove, National Institutes of Health, 9609 Medical Center Drive, 7th Floor, Room. 7W530, Bethesda, MD 20892, 240-276-6340, shamala@mail.nih.gov.

Late Notice Text: This notice is being published less than 15 days from the meeting date due to exceptional circumstances. The National Cancer Advisory Board (NCAB) meeting date could not be confirmed until the appointment of the new NCI Director, Dr. Anthony Letai, which occurred on September 30, 2025. As of the next day, October 1, 2025, it was not possible to publish the meeting notice for the NCAB as a result of the 43-day government shutdown, due to lapsed appropriations.

Any interested person may file written comments with the committee by forwarding the statement to the Contact Person listed on this notice. The statement should include the name, address, telephone number and when applicable, the business or professional affiliation of the interested person.

Information is also available on the Institute's/Center's home page: NCAB: http://cancer.gov, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Zieta M. Charles,
Program Analyst, Office of Federal Advisory Committee Policy.

[FR Doc. 2025-20483 Filed 11-20-25; 8:45 am]

BILLING CODE 4140-01-P